DEPARTMENT OF COMMERCE

National Oceanic and Atmospheric Administration

Proposed Information Collection; Comment Request; Atlantic Highly Migratory Species Vessel Chartering Permits

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before February 27, 2007.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Karyl Brewster-Geisz, National Marine Fisheries Service at (301) 713-2347 or Karyl.Brewster-Geisz@noaa.gov.

SUPPLEMENTARY INFORMATION:

I. Abstract

The National Marine Fisheries Service (NMFS) issues Atlantic Highly Migratory Species (HMS) Chartering Permits to applicable vessels to allow U.S. fishing vessels to fish for HMS within the Exclusive Economic Zone (EEZ) of other nations in a manner consistent with another country's regulations. The permits collect data consistent with an International Commission for the Conservation of Atlantic Tunas (ICCAT) recommendation that states that at the time of the chartering arrangement, the chartering and flag Contracting parties shall provide specific information concerning the charter to the ICCAT Executive Secretary, including vessel details, target species, duration, and consent of the flag Contracting Party or Cooperating non-Contracting Party, Entity, or Fishing Entity. Current regulations require U.S. vessels to submit information regarding their chartering arrangements. The information collected from chartering permit applications will be used to ensure that vessels entering into chartering agreements comply with ICCAT conservation and management measures. The NMFS would use information submitted in applications for chartering arrangements, and other applicable notifications (such as termination notifications from the applicant indicating a desire to terminate their chartering agreement), to monitor the activities and durations of such arrangements targeting HMS in the Atlantic Ocean. NMFS would report this information annually to the Executive Secretary of ICCAT as a means of demonstrating compliance with ICCAT's conservation and management recommendations.

II. Method of Collection

Information is submitted on forms or other written format, and may be submitted electronically by e-mail.

III. Data

OMB Number: 0648-0495.

Form Number: None.

Type of Review: Regular submission.

Affected Public: Business and other for-profit organizations.

Estimated Number of Respondents: 10.

Estimated Time Per Response: 40 minutes for a Chartering permit application; and 5 minutes for a termination notification.

Estimated Total Annual Burden Hours: 8.

Estimated Total Annual Cost to Public: $8.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 22, 2006.
Gwellnar Banks,
Management Analyst, Office of the Chief Information Officer.

[FR Doc. E6-22338 Filed 12-28-06; 8:45 am]

BILLING CODE 3510-22-P